DEPARTMENT OF ENERGY

10 CFR Chs. II, III, and X

48 CFR Ch. 9

Unified Agenda of Federal Regulatory and Deregulatory Actions

AGENCY: Department of Energy.

ACTION: Semiannual regulatory agenda.

SUMMARY: The Department of Energy (DOE) has prepared and is making available its portion of the semiannual Unified Agenda of Federal Regulatory and Deregulatory Actions (Agenda) pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Independence and Security Act of 2007, the American Energy Manufacturing Technical Corrections Act and programmatic needs of DOE offices.

The Internet is the basic means for disseminating the Agenda and providing users the ability to obtain information from the Agenda database. DOE's Spring 2015 Agenda can be accessed online by going to www.reginfo.gov. Agenda entries reflect the status of activities as of approximately May 31, 2015.

Publication in the Federal Register is mandated by the Regulatory Flexibility Act (5 U.S.C. 602) only for Agenda entries that require either a regulatory flexibility analysis or periodic review under section 610 of that Act. DOE's regulatory flexibility agenda is made up of five rulemakings setting energy efficiency standards for the following products:

• Automatic Commercial Ice Makers

• Hearth Products

• Commercial Packaged Boilers

• Commercial Warm Air Furnaces

• Single Package Vertical Air Conditioners and Heat Pumps

Steven P. Croley,
General Counsel.

Energy Efficiency and Renewable Energy—Proposed Rule Stage
Sequence No. | Title | Regulation Identifier No.
94 | Energy Conservation Standards for Commercial Packaged Boilers | 1904-AD01
95 | Energy Conservation Standards for Hearth Products | 1904-AD35

Energy Efficiency and Renewable Energy—Final Rule Stage
Sequence No. | Title | Regulation Identifier No.
96 | Energy Conservation Standards for Single Package Vertical Air Conditioners and Single Package Vertical Heat Pumps | 1904-AC85
97 | Energy Conservation Standards for Commercial Warm Air Furnaces | 1904-AD11

Energy Efficiency and Renewable Energy—Completed Actions
Sequence No. | Title | Regulation Identifier No.
98 | Energy Efficiency Standards for Automatic Commercial Ice Makers | 1904-AC39

DEPARTMENT OF ENERGY (DOE)

Energy Efficiency and Renewable Energy (EE)

94. Energy Conservation Standards for Commercial Packaged Boilers

Legal Authority: 42 U.S.C. 6313(a)(6)(C)

Abstract: EPCA, as amended by AEMTCA, requires the Secretary to determine whether updating the statutory energy conservation standards for commercial packaged boilers is technically feasible and economically justified and would save a significant amount of energy. If justified, the Secretary will issue amended energy conservation standards for such equipment.

Timetable:

Action | Date | FR Cite
Notice of Proposed Determination (NOPD) | 08/13/13 | 78 FR 49202
NOPD Comment Period End | 09/12/13
Public Meeting and Framework Document Availability | 09/03/13 | 78 FR 54197
Framework Document Comment Period End | 10/18/13
Preliminary Analysis | 11/20/14 | 79 FR 69066
Preliminary Analysis Comment Period End | 01/20/15
NPRM | 07/00/15
Final Action | 06/00/16

Regulatory Flexibility Analysis Required: Yes.

Agency Contact: James Raba, Office of Building Technologies Program, EE-5B, Department of Energy, Energy Efficiency and Renewable Energy, 1000 Independence Avenue SW., Washington, DC 20585, Phone: 202 586-8654, Email: jim.raba@ee.doe.gov.

RIN: 1904-AD01

95. Energy Conservation Standards for Hearth Products

Legal Authority: 42 U.S.C. 6292(a)(20) and (b); 42 U.S.C. 6295(l)(1)

Abstract: DOE is conducting a rulemaking to analyze potential energy conservation standards for hearth products. DOE is developing this rulemaking concurrent with its coverage determination for these products.

Timetable:

Action | Date | FR Cite
NPRM and Notice of Public Meeting Date 03/23/15 | 02/09/15 | 80 FR 7082
NPRM Comment Period End | 04/10/15
NPRM Comment Period Extended | 04/13/15 | 80 FR 19569
NPRM Comment Period Extended End | 05/11/15
Final Action | 12/00/15

Regulatory Flexibility Analysis Required: Yes.

Agency Contact: Ashley Armstrong, General Engineer, EE-5B, Department of Energy, Energy Efficiency and Renewable Energy, 1000 Independence Avenue SW., Washington, DC 20585, Phone: 202 586-6590, Email: ashley.armstrong@ee.doe.gov.

RIN: 1904-AD35

DEPARTMENT OF ENERGY (DOE)

Energy Efficiency and Renewable Energy (EE)

96. Energy Conservation Standards for Single Package Vertical Air Conditioners and Single Package Vertical Heat Pumps

Legal Authority: 42 U.S.C. 6313(a)(6) and (10)

Abstract: This rulemaking amends energy conservation standards for single package vertical air conditioners (SPVAC) and single package vertical heat pumps (SPVHP). The Energy Policy and Conservation Act of 1975 (EPCA), as amended, prescribes energy conservation standards for SPVAC and SPVHP and directs DOE to review those standards in light of the latest industry standards for that equipment. DOE must adopt the latest industry standard unless DOE determines that there is clear and convincing evidence supporting the adoption of more stringent levels.

Timetable:

Action | Date | FR Cite
Notice of Data Availability (NODA) | 05/05/11 | 76 FR 25622
NODA Comment Period End | 06/06/11
Second Notice of Data Availability | 04/11/14 | 79 FR 20114
Second NODA Comment Period End | 05/12/14
NPRM | 12/30/14 | 79 FR 78614
NPRM Comment Period End | 03/02/15
Final Action | 10/00/15 |

Regulatory Flexibility Analysis Required: Yes.

Agency Contact: Ronald B. Majette, Program Manager, Office of Building Technologies Program, EE-5B, Department of Energy, Energy Efficiency and Renewable Energy, 1000 Independence Avenue SW., Washington, DC 20585, Phone: 202 586-7935, Email: ronald.majette@ee.doe.gov.

RIN: 1904-AC85

97. Energy Conservation Standards for Commercial Warm Air Furnaces

Legal Authority: 42 U.S.C. 6313(a)(6)(C)(i) and (vi)

Abstract: EPCA, as amended by AEMTCA, requires the Secretary to determine whether updating the statutory energy conservation standards for commercial warm air furnaces is technically feasible and economically justified and would save a significant amount of energy. If justified, the Secretary will issue amended energy conservation standards for this type of equipment.

Timetable:

Action | Date | FR Cite
Request for Information (RFI) | 05/02/13 | 78 FR 25627
RFI Comment Period End | 06/03/13
NPRM | 02/04/15 | 80 FR 6182
NPRM Comment Period End | 04/06/15
Final Action | 10/00/15

Regulatory Flexibility Analysis Required: Yes.

Agency Contact: John Cymbalsky, Office of Building Technologies Program, EE-5B, Department of Energy, Energy Efficiency and Renewable Energy, 1000 Independence Avenue SW., Washington, DC 20585, Phone: 202 287-1692, Email: john.cymbalsky@ee.doe.gov.

RIN: 1904-AD11

DEPARTMENT OF ENERGY (DOE)

Energy Efficiency and Renewable Energy (EE)

98. Energy Efficiency Standards for Automatic Commercial Ice Makers

Legal Authority: 42 U.S.C. 6313(d)(2) and (3).

Abstract: EPCA, as amended by EPACT 2005, requires the Secretary to determine whether updating the statutory standards for automatic commercial ice makers is technologically feasible and economically justified. Such a determination was made and a rule was issued for automatic ice makers.

Completed:

Reason | Date | FR Cite
Notice of Data Availability; Request for Comment End | 10/14/14
Final Action | 01/28/15 | 80 FR 4646
Final Action Effective | 03/30/15

Regulatory Flexibility Analysis Required: Yes.

Agency Contact: John Cymbalsky, Phone: 202 287-1692, Email: john.cymbalsky@ee.doe.gov.

RIN: 1904-AC39

[FR Doc. 2015-14351 Filed 6-17-15; 8:45 am]

BILLING CODE 6450-01-P